OFFICE OF MANAGEMENT AND BUDGET

Designation of Database for Treasury's Working System Under the Do Not Pay Initiative

AGENCY: Office of Management and Budget.

ACTION: Notice of designation.

SUMMARY: The Payment Integrity Information Act of 2019 (PIIA) authorizes the Office of Management and Budget (OMB) to designate databases for inclusion in Treasury's Working System under the Do Not Pay (DNP) Initiative. PIIA further requires OMB to provide public notice and opportunity for comment prior to designating additional databases. In fulfillment of this requirement, on October 12, 2021, OMB published a Notice of Proposed Designation (86 FR 56726) for the National Association of Public Health Statistics and Information Systems (NAPHSIS) Electronic Verification of Vital Events (EVVE) Facts of Death (FOD) System. OMB received no comments on this designation. Effective immediately, OMB designates the National Association of Public Health Statistics and Information Systems (NAPHSIS) Electronic Verification of Vital Events (EVVE) Facts of Death (FOD) System.

FOR FURTHER INFORMATION CONTACT: Regina Kearney at the OMB Office of Federal Financial Management at (202) 395-3993.

Shalanda Young,
Acting Director.

[FR Doc. 2022-00889 Filed 1-18-22; 8:45 am]

BILLING CODE 3110-01-P